DEPARTMENT OF EDUCATION

34 CFR Part 300

[Docket ID ED-2020-OSERS-0191]

Proposed Guidance; Questions and Answers on Serving Children With Disabilities Placed by Their Parents in Private Schools

Correction

In proposed rule document 2020-27872 appearing on pages 82994-82995 in the issue of Monday, December 21, 2020, make the following correction:

(1) On page 82994, in the third column, in the DATES section, change “January 20, 2021” to read “January 21, 2021.”

[FR Doc. C1-2020-27872 Filed 1-12-21; 8:45 am]

BILLING CODE 1301-00-D